DEPARTMENT OF HEALTH AND HUMAN SERVICES

National Institutes of Health

Interagency Autism Coordinating Committee; Call for Nominations

In accordance with Public Law 112-32, The Combating Autism Reauthorization Act the Department of Health and Human Services has been authorized to continue to support the Interagency Autism Coordinating Committee (IACC) until September 30, 2014 and is seeking nominations for public membership on this committee. The Secretary of the Department of Health and Human Services, who will make the final selections and appointments of public members, has directed the Office of Autism Research Coordination (OARC) to assist the Department in conducting an open and transparent nomination process. Nominations of new public members are encouraged, but current members may also be re-nominated to continue to serve. Self-nominations and nominations of other individuals are both permitted. Only one nomination per individual is required. Multiple nominations for the same individual will not increase likelihood of selection. The Secretary may select public members from the pool of submitted nominations and other sources as needed to meet statutory requirements and to form a balanced committee that represents the diversity within the community (details below). Those eligible for nomination include leaders or representatives of major autism spectrum disorder (ASD) research, advocacy and service organizations, parents or guardians of individuals with ASD, individuals on the autism spectrum, providers, educators, researchers and other individuals with professional or personal experience with ASD. In accordance with White House Office of Management and Budget guidelines (FR Doc. 2011-25736), federally-registered lobbyists are not eligible. As specified in Public Law 109-416, which has been extended by Public Law 112-32, the Committee will carry out the following responsibilities: (a) Develop a summary of advances in autism spectrum disorder research supported or conducted by the Federal agencies relevant to causes, prevention, treatment, early screening, diagnosis or rule out, intervention, and access to services and supports for individuals with autism spectrum disorder; (b) monitor Federal activities with respect to autism spectrum disorder; (c) make recommendations to the Secretary regarding any appropriate changes to such activities, including recommendations to the Director of NIH with respect to the strategic plan; (d) make recommendations to the Secretary regarding public participation in decisions relating to autism spectrum disorder; (e) develop and annually update a strategic plan for the conduct of, and support for, autism spectrum disorder research, including proposed budgetary requirements.

In accordance with Public Law 109-416, which has been extended by Public Law 112-32, “Not fewer than 6 members of the Committee, or 1/3 of the total membership of the Committee, whichever is greater, shall be composed of non-Federal public members appointed by the Secretary, of which—(a) at least one such member shall be an individual with a diagnosis of autism spectrum disorder; (b) at least one such member shall be a parent or legal guardian of an individual with an autism spectrum disorder; and (c) at least one such member shall be a representative of leading research, advocacy, and service organizations for individuals with autism spectrum disorder.”

Public members of the Committee shall serve for a term of 4 years, and may be reappointed for one or more additional 4 year terms. Any member appointed to fill a vacancy for an unexpired term shall be appointed for the remainder of such term. A member may serve after the expiration of the member's term until a successor has taken office. Public members will serve as Special Government Employees. The Committee shall meet at the call of the chairperson or upon the request of the Secretary. The Committee shall meet not fewer than 2 times each year.

In 2008-2011, the Committee held an average of 15 meetings, workshops and phone conferences per year. Travel expenses are provided for Committee members to facilitate attendance at in-person meetings.

The Department strives to ensure that the membership of HHS Federal advisory committees is fairly balanced in terms of points of view represented and the committee's function. Every effort is made to ensure that the views of women, all ethnic and racial groups, and people with disabilities are represented on HHS Federal advisory committees and, therefore, the Department encourages nominations of qualified candidates from these groups. The Department also encourages geographic diversity in the composition of the Committee. Appointment to this Committee shall be made without discrimination on the basis of age, race, ethnicity, gender, sexual orientation, disability, and cultural, religious, or socioeconomic status. Requests for reasonable accommodation to enable participation on the Committee should be indicated in the nomination submission. Nominations are due by COB November 30, 2011 and may be sent to Dr. Susan Daniels, Acting Director, Office of Autism Research Coordination/NIMH/NIH, 6001 Executive Boulevard, Room 8185, Bethesda MD 20892-2190 by standard or express mail, or via email to IACCPublicInquiries@mail.nih.gov. Nominations should include a cover letter of no longer than 3 pages describing the candidate's interest in seeking appointment to the IACC, including relevant personal and professional experience with ASD, as well as contact information and a current curriculum vitae or resume. Please do not include additional materials unless requested. More information about the IACC is available at http://www.iacc.hhs.gov.

Dated: October 27, 2011.
Susan A. Daniels,
Acting Director, Office of Autism Research Coordination, National Institute of Mental Health.

[FR Doc. 2011-28375 Filed 11-1-11; 8:45 am]

BILLING CODE 4140-01-P